DEPARTMENT OF TRANSPORTATION

Federal Aviation Administration

Office of Commercial Space Transportation; Notice of Availability of the Final Environmental Assessment and Finding of No Significant Impact for Issuing a License to Virgin Orbit (LauncherOne), LLC for LauncherOne Launches at the Mojave Air and Space Port, Kern County, California

AGENCY: Federal Aviation Administration (FAA), Department of Transportation (DOT), lead Federal agency. National Aeronautics and Space Administration, cooperating agency.

ACTION: Notice of availability.

SUMMARY: In accordance with the National Environmental Policy Act of 1969, as amended (NEPA), Council on Environmental Quality NEPA implementing regulations, and FAA Order 1050.1F, Environmental Impacts: Policies and Procedures, the FAA is announcing the availability of the Final Environmental Assessment and Finding of No Significant Impact for Issuing a License to Virgin Orbit (LauncherOne), LLC for LauncherOne Launches at the Mojave Air and Spaceport, Kern County, California (Final Environmental Assessment [EA]).

FOR FURTHER INFORMATION CONTACT: Daniel Czelusniak, Environmental Specialist, Federal Aviation Administration, 800 Independence Avenue SW., Suite 325, Washington, DC 20591; email Daniel.Czelusniak@faa.gov; or phone (202) 267-5924.

SUPPLEMENTARY INFORMATION: The Final EA addresses the potential environmental impacts of Virgin Orbit (LauncherOne) LLC's (L1's) proposal to launch the LauncherOne at the Mojave Air and Space Port in Kern County, California, for purposes of transporting small satellites into a variety of Low Earth Orbits. The launch system consists of the rocket (LauncherOne) and a carrier aircraft (Boeing 747). To operate LauncherOne at the Mojave Air and Space Port, L1 must obtain a launch license from the FAA. Issuing a launch license is considered a major Federal action subject to environmental review under NEPA. Under the Proposed Action, the FAA would issue a launch license to L1 that would allow L1 to operate LauncherOne from the Mojave Air and Space Port. L1 is proposing a maximum of 115 launches over the course of the 5-year launch license (expected 2017-2021). The maximum number of annual launches during this time period would be 40.

The Final EA evaluated the environmental impacts of the Proposed Action and the No Action Alternative. Under the No Action Alternative, the FAA would not issue a launch license for the operation of LauncherOne from the Mojave Air and Space Port. Also, the FAA would not modify Mojave Air and Space Port's launch site operator license to include “orbital” reusable launch vehicle missions. The Mojave Air and Space Port would continue its existing operations.

The FAA has posted the Final EA and FONSI on the FAA Office of Commercial Space Transportation Web site: http://www.faa.gov/about/office_org/headquarters_offices/ast/environmental/nepa_docs/review/launch/.

Issued in Washington, DC, on July 11, 2017.
Daniel Murray,
Manager, Space Transportation Development Division.

[FR Doc. 2017-15702 Filed 7-25-17; 8:45 am]

BILLING CODE 4910-13-P